DEPARTMENT OF ENERGY

Federal Energy Regulatory Commission

Combined Notice of Filings #1

July 20, 2007.

Take notice that the Commission received the following open access transmission tariff filings:

Docket Numbers: OA07-25-000.

Applicants: Duke Energy Carolinas, LLC.

Description: Duke Energy Carolinas, LLC submits its Open Access Transmission Tariff (OATT) compliance filing pursuant to Order No. 890.

Filed Date: 07/11/2007.

Accession Number: 20070710-5095.

Comment Date: 5 p.m. Eastern Time on Wednesday, August 1, 2007.

Docket Numbers: OA07-26-000.

Applicants: Public Service Company of New Mexico.

Description: Public Service Company of New Mexico submits its OATT compliance filing pursuant to Order No. 890.

Filed Date: 07/12/2007.

Accession Number: 20070712-5025.

Comment Date: 5 p.m. Eastern Time on Thursday, August 2, 2007.

Docket Numbers: OA07-27-000.

Applicants: E ON U.S. LLC.

Description: LG&E/KU on behalf of LG&E submits its Capacity of Benefit Margin (CBM) compliance filing pursuant to Order No. 890.

Filed Date: 07/12/2007.

Accession Number: 20070712-5047.

Comment Date: 5 p.m. Eastern Time on Thursday, August 2, 2007.

Docket Numbers: OA07-28-000.

Applicants: Avista Corporation.

Description: Avista Corporation submits its OATT compliance filing pursuant to Order No. 890.

Filed Date: 07/13/2007.

Accession Number: 20070712-5069.

Comment Date: 5 p.m. Eastern Time on Friday, August 3, 2007.

Docket Numbers: OA07-29-000.

Applicants: NewCorp Resources Electric Cooperative, Inc.

Description: NewCorp Resources Electric Cooperative, Inc submits its OATT compliance filing pursuant to Order No. 890.

Filed Date: 07/13/2007.

Accession Number: 20070713-5003.

Comment Date: 5 p.m. Eastern Time on Friday, August 3, 2007.

Docket Numbers: OA07-30-000.

Applicants: Ohio Valley Electric Corporation.

Description: Ohio Valley Electric Corp submits its OATT compliance filing pursuant to Order No. 890.

Filed Date: 07/13/2007.

Accession Number: 20070713-5006.

Comment Date: 5 p.m. Eastern Time on Friday, August 3, 2007.

Docket Numbers: OA07-31-000.

Applicants: Aquila, Inc.

Description: Aquila, Inc. submits its OATT compliance filing pursuant to Order 890.

Filed Date: 07/13/2007.

Accession Number: 20070713-5017.

Comment Date: 5 p.m. Eastern Time on Friday, August 3, 2007.

Docket Numbers: OA07-32-000.

Applicants: Entergy Services Inc.

Description: Entergy Services, Inc submits its OATT compliance filing pursuant to Order No. 890.

Filed Date: 07/13/2007.

Accession Number: 20070713-5027.

Comment Date: 5 p.m. Eastern Time on Friday, August 3, 2007.

Docket Numbers: OA07-33-000; OA07-11-001.

Applicants: Deseret Generation & Transmission Co-op.

Description: Deseret Generation & Transmission Co-operative, Inc submits its OATT compliance filing pursuant to Order No. 890.

Filed Date: 07/13/2007.

Accession Number: 20070713-5026.

Comment Date: 5 p.m. Eastern Time on Friday, August 3, 2007.

Docket Numbers: OA07-34-000.

Applicants: Sierra Pacific Resources Operating Company.

Description: Sierra Pacific Resources Operating Companies submits its OATT compliance filing pursuant to Order No. 890.

Filed Date: 07/13/2007.

Accession Number: 20070713-5030.

Comment Date: 5 p.m. Eastern Time on Friday, August 3, 2007.

Docket Numbers: OA07-35-000.

Applicants: Cleco Power LLC.

Description: Cleco Power LLC submits its OATT compliance filing pursuant to Order No. 890.

Filed Date: 07/13/2007.

Accession Number: 20070713-5032.

Comment Date: 5 p.m. Eastern Time on Friday, August 3, 2007.

Docket Numbers: OA07-36-000.

Applicants: South Carolina Electric & Gas Company.

Description: South Carolina Electric & Gas Company submits its OATT compliance filing pursuant to Order No. 890.

Filed Date: 07/13/2007.

Accession Number: 20070713-5035.

Comment Date: 5 p.m. Eastern Time on Friday, August 3, 2007.

Docket Numbers: OA07-37-000.

Applicants: Kentucky Utilities Company; Louisville Gas and Electric Company; E.ON U.S. LLC.

Description: E.ON U.S., LLC on behalf of Louisville Gas & Electric and Kentucky Utilities submits its OATT compliance filing pursuant to Order 890.

Filed Date: 07/13/2007.

Accession Number: 20070713-5034.

Comment Date: 5 p.m. Eastern Time on Friday, August 3, 2007.

Docket Numbers: OA07-38-000.

Applicants: Southern Company Services, Inc.

Description: Southern Company Services, Inc submits its OATT compliance filing pursuant to Order No. 890.

Filed Date: 07/13/2007.

Accession Number: 20070713-5036.

Comment Date: 5 p.m. Eastern Time on Friday, August 3, 2007.

Docket Numbers: OA07-39-000.

Applicants: Xcel Energy Services Inc.

Description: Xcel Energy Services Inc. submits its OATT compliance filing pursuant to Order No. 890.

Filed Date: 07/13/2007.

Accession Number: 20070713-5037.

Comment Date: 5 p.m. Eastern Time on Friday, August 3, 2007.

Docket Numbers: OA07-40-000; OA07-15-001.

Applicants: Portland General Electric Company.

Description: Portland General Electric Company submits its OATT compliance filing pursuant to Order No. 890.

Filed Date: 07/13/2007.

Accession Number: 20070713-5041.

Comment Date: 5 p.m. Eastern Time on Friday, August 3, 2007.

Docket Numbers: OA07-41-000.

Applicants: Allegheny Power.

Description: Allegheny Power submits its Request for waiver of Order 890.

Filed Date: 07/13/2007.

Accession Number: 20070716-0187.

Comment Date: 5 p.m. Eastern Time on Friday, August 3, 2007.

Docket Numbers: OA07-42-000.

Applicants: Southern Company Services, Inc.

Description: Southern Company Services, Inc. submits its CBM compliance filing pursuant to Order No. 890.

Filed Date: 07/13/2007.

Accession Number: 20070713-5039.

Comment Date: 5 p.m. Eastern Time on Friday, August 3, 2007.

Docket Numbers: OA07-43-000.

Applicants: Arizona Public Service Company.

Description: Arizona Public Service Company submits its OATT compliance filing pursuant to Order No. 890.

Filed Date: 07/13/2007.

Accession Number: 20070713-5045.

Comment Date: 5 p.m. Eastern Time on Friday, August 3, 2007.

Docket Numbers: OA07-44-000.

Applicants: El Paso Electric Company.

Description: El Paso Electric Co submits its OATT compliance filing pursuant to Order No. 890.

Filed Date: 07/13/2007.

Accession Number: 20070713-5046.

Comment Date: 5 p.m. Eastern Time on Friday, August 3, 2007.

Docket Numbers: OA07-45-000.

Applicants: El Paso Electric Company.

Description: El Paso Electric Company submits its CBM compliance filing pursuant to Order No. 890.

Filed Date: 07/13/2007.

Accession Number: 20070713-5050.

Comment Date: 5 p.m. Eastern Time on Friday, August 3, 2007.

Docket Numbers: OA07-46-000.

Applicants: Florida Power & Light Company.

Description: Florida Power & Light Company submits its OATT compliance filing pursuant to Order No. 890.

Filed Date: 07/13/2007.

Accession Number: 20070713-5042.

Comment Date: 5 p.m. Eastern Time on Friday, August 3, 2007.

Docket Numbers: OA07-47-000.

Applicants: Tampa Electric Company.

Description: Tampa Electric Company submits its OATT compliance filing pursuant to Order No. 890.

Filed Date: 07/13/2007.

Accession Number: 20070713-5056.

Comment Date: 5 p.m. Eastern Time on Friday, August 3, 2007.

Docket Numbers: OA07-48-000.

Applicants: Tucson Electric Power Company.

Description: Tucson Electric Power Company submits its OATT compliance filing pursuant Order No. 890.

Filed Date: 07/13/2007.

Accession Number: 20070713-5064.

Comment Date: 5 p.m. Eastern Time on Friday, August 3, 2007.

Docket Numbers: OA07-49-000.

Applicants: UNS Electric, Inc.

Description: UNS Electric, Inc. submits its OATT compliance filing pursuant to Order No. 890.

Filed Date: 07/13/2007.

Accession Number: 20070713-5066.

Comment Date: 5 p.m. Eastern Time on Friday, August 3, 2007.

Docket Numbers: OA07-50-000.

Applicants: Alcoa Power Generating Inc.—Yadkin.

Description: Alcoa Power Generating Inc.—Yadkin Division submits its OATT compliance filing pursuant to Order No. 890.

Filed Date: 07/13/2007.

Accession Number: 20070713-5067.

Comment Date: 5 p.m. Eastern Time on Friday, August 3, 2007.

Docket Numbers: OA07-51-000.

Applicants: Mid-Continent Area Power Pool.

Description: Mid-Continent Area Power Pool submits its OATT compliance filing pursuant to Order No. 890.

Filed Date: 07/13/2007.

Accession Number: 20070713-5071.

Comment Date: 5 p.m. Eastern Time on Friday, August 3, 2007.

Docket Numbers: OA07-52-000.

Applicants: Puget Sound Energy, Inc.

Description: Puget Sound Energy, Inc submits its OATT compliance filing pursuant to Order No. 890.

Filed Date: 07/13/2007.

Accession Number: 20070713-5072.

Comment Date: 5 p.m. Eastern Time on Friday, August 3, 2007.

Docket Numbers: OA07-53-000.

Applicants: Progress Energy, Inc.

Description: Progress Energy, Inc. submits its OATT compliance filing pursuant to Order No. 890.

Filed Date: 07/13/2007.

Accession Number: 20070713-5076.

Comment Date: 5 p.m. Eastern Time on Friday, August 3, 2007.

Docket Numbers: OA07-54-000; OA07-18-001.

Applicants: PacifiCorp.

Description: PacifiCorp submits its OATT compliance filing pursuant to Order No. 890.

Filed Date: 07/13/2007.

Accession Number: 20070713-5078.

Comment Date: 5 p.m. Eastern Time on Friday, August 3, 2007.

Docket Numbers: OA07-55-000.

Applicants: Black Hills Power, Inc.

Description: Black Hills Power, Inc. on behalf of Basin Electric Power Cooperative, and Powder River Energy Corp submits its OATT compliance filing pursuant to Order No. 890.

Filed Date: 07/13/2007.

Accession Number: 20070713-5088.

Comment Date: 5 p.m. Eastern Time on Friday, August 3, 2007.

Docket Numbers: OA07-56-000.

Applicants: MidAmerican Energy Company.

Description: MidAmerican Energy Company submits its OATT compliance filing pursuant to Order No. 890.

Filed Date: 07/13/2007.

Accession Number: 20070713-5087.

Comment Date: 5 p.m. Eastern Time on Friday, August 3, 2007.

Docket Numbers: OA07-57-000.

Applicants: Midwest Independent Transmission System Operator, Inc.

Description: Midwest Independent System Operator, Inc submits its CBM compliance filing pursuant to Order No. 890.

Filed Date: 07/13/2007.

Accession Number: 20070713-5092.

Comment Date: 5 p.m. Eastern Time on Friday, August 3, 2007.

Docket Numbers: OA07-58-000.

Applicants: Northwestern Corp.

Description: Northwestern Corporation submits its compliance filing pursuant to Order No. 890.

Filed Date: 07/13/2007.

Accession Number: 20070713-5093.

Comment Date: 5 p.m. Eastern Time on Friday, August 3, 2007.

Docket Numbers: OA07-59-000; OA07-13-001.

Applicants: NorthWestern Corporation.

Description: NorthWestern Corporation South Dakota submits its OATT compliance filing pursuant to Order No. 890.

Filed Date: 07/13/2007.

Accession Number: 20070713-5096.

Comment Date: 5 p.m. Eastern Time on Friday, August 3, 2007.

Docket Numbers: OA07-60-000.

Applicants: Idaho Power Company.

Description: Idaho Power Company submits its OATT compliance filing pursuant to Order No. 890.

Filed Date: 07/13/2007.

Accession Number: 20070713-5099.

Comment Date: 5 p.m. Eastern Time on Friday, August 3, 2007.

Docket Numbers: OA07-61-000.

Applicants: Maine Public Service Company.

Description: Maine Public Service Company submits its OATT compliance filing pursuant to Order No. 890.

Filed Date: 07/13/2007.

Accession Number: 20070713-5108.

Comment Date: 5 p.m. Eastern Time on Friday, August 3, 2007.

Docket Numbers: OA07-70-000.

Applicants: Idaho Power Company.

Description: Idaho Power Company submits its CBM compliance filing pursuant to Order 890.

Filed Date: 07/13/2007.

Accession Number: 20070717-0173.

Comment Date: 5 p.m. Eastern Time on Friday, August 3, 2007.

Docket Numbers: OA07-74-000.

Applicants: MATL LLP.

Description: Montana Alberta Tie Ltd submits its OATT compliance filing pursuant to Order No. 890.

Filed Date: 07/13/2007.

Accession Number: 20070717-0191.

Comment Date: 5 p.m. Eastern Time on Friday, August 3, 2007.

Docket Numbers: OA07-76-000.

Applicants: New York Independent System Operator, Inc.

Description: New York Independent System Operator Inc. submits a request for temporary waivers, request for expedited action, and request for waiver of notice and comment procedures.

Filed Date: 07/13/2007.

Accession Number: 20070717-0177.

Comment Date: 5 p.m. Eastern Time on Friday, August 3, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-14728 Filed 7-30-07; 8:45 am]

BILLING CODE 6717-01-P